DEPARTMENT OF AGRICULTURE

Food and Nutrition Service

Agency Information Collection Activities: Proposed Collection Comment Requested—Supplemental Nutritional Assistance Program Education (SNAP-Ed) Collection Recipe Submission and Review Forms

AGENCY: Food and Nutrition Service (FNS), USDA.

ACTION: Notice and request for comments.

SUMMARY: In accordance with the Paperwork Reduction Act of 1995 this notice announces the Food and Nutrition Service's (FNS) intent to request approval to collect information via online forms. This is a revision of a currently approved information collection request which was transferred from Agricultural Research Service. These voluntary forms (SNAP-Ed Connection Recipe Submission and Review Forms) will be used by Supplemental Nutrition Assistance Program Education (SNAP-Ed) instructors, Individuals/Households (consumers from the general public), Business (the private sector), USDA Food program operators, and other Federal entities and State Agencies (school nutrition experts, State Agency nutrition programs) to submit recipes. These same groups will also be able to review recipes. These two voluntary forms (The Recipe Finder Submission Form and The Recipe Review Form) give consumers and nutrition program experts the opportunity to share recipes that they have developed and review recipes that have been submitted by either group.

DATES: Comments on this notice must be received by October 23, 2017 to be assured of consideration.

ADDRESSES: Comments may be sent to: Usha Kalro, Food and Nutrition Service, Supplemental Nutrition Assistance Program, Program Administration and Accountability Division, SNAP-Ed Connection, 3101 Park Center Drive, Room 822, Alexandria, VA 22302, or via fax 703 305 0928. Submit electronic comments to snap-edconnection@fns.usda.gov. Comments will also be accepted through the Federal eRulemaking Portal. Go to http://www.regulations.gov and follow the online instructions for submitting comments electronically.

All written comments will be open for public inspection at the office of the Food and Nutrition Service during regular business hours (8:30 a.m. to 5 p.m. Monday through Friday) at 3101 Park Center Drive, Alexandria, Virginia 22302.

FOR FURTHER INFORMATION CONTACT: Requests for additional information or copies of this information collected should be directed to Usha Kalro, telephone (703) 305-2397, or at usha.kalro@fns.usda.gov.

SUPPLEMENTARY INFORMATION: Comments are invited on: (a) Whether the proposed collection of information is necessary for the proper performance of the functions of the agency, including whether the information shall have practical utility; (b) the accuracy of the agency's estimate of the burden on the proposed collection of information, including the validity of the methodology and assumptions that were used; (c) ways to enhance the quality, utility, and clarity of the information collected; and (d) ways to minimize the burden of the collection of information on those who are to respond, including use of appropriate automated, electronic, mechanical, or other technological collection techniques or other forms of information technology.

All responses to this notice will be summarized and included in the request for Office of Management and Budget approval. All comments will be a matter of public record.

Title: SNAP-Ed Connection Recipe Submission and Review Forms.

OMB Number: 0584-0624.

Form Number: N/A.

Expiration Date: 10.31.17.

Type of Request: Revision of a currently approved information collect request.

Abstract: We are requesting an update in the name of this form. The name change from Food Stamp to SNAP was based on the Farm Bill, The Food, Conservation, and Energy Act of 2008 (Pub. L. 110-234, H.R. 2419, 122 Stat. 923, Section 4001 enacted May 22, 2008, also known as the 2008 U.S. Farm Bill).

The What's Cooking? USDA Mixing Bowl (formerly the Food Stamp Nutrition Connection Recipe Finder, and then SNAP-Ed Connection Recipe Finder) https://whatscooking.fns.usda.gov is an on-line recipe database. This database is a central location for recipe users to submit and search for healthy recipes that support the Dietary Guidelines for Americans 2015 (DGA). The recipe database is now a combination of recipes from other USDA Food and Nutrition Service (FNS) programs such as the Food Distribution Programs (FDP) (Food Distribution on Indian Reservations, Commodity Supplemental Food Program, and The Emergency Food Assistance Program), Child Nutrition Programs (CNP), and the Center for Nutrition Policy and Promotion (CNPP). The recipes benefit (individuals/households) consumers, State Agency staff, SNAP-Ed instructors, school nutrition experts, and (business-for-not-for-profit) the private sector.

The Recipe Finder Submission Form allows SNAP-Ed instructors, individuals/household consumers from the general public, USDA Foods program operators, other Federal entities and State Agency nutrition programs, school nutrition experts, and (business-for-not-for-profit) the private sector to submit recipes on-line, making the submission process efficient. The criteria for recipe inclusion vary by program area. Staff from SNAP-Ed Connection, CNPP, FDP, and CNP reviews the data collected from the voluntary Recipe Finder Submission Form. Only Staff will review the form to determine whether a recipe is eligible for inclusion in the database.

Data collected (such as names, addresses, emails and affiliations) from The Recipe Review Form allows recipe users to provide feedback about the recipe that may help future users & allows the Federal entity to reach out to request any changes in the recipe to meet the DGA. Any Web site user is able to leave comments. Estimated burden for each form and affected public is defined in the table below.

Form 1: The Recipe Finder Submission Form

Affected Public: State Agencies (15); Business-for-not-for-profit (5) and Individuals or Households (5).

Estimated Total Number of Respondents: 25 (There are15 State Agencies—who SNAP-Ed instructors, school nutrition experts, state agency nutrition programs), 5 business from the private sector, 5 individuals and household consumers from the general public, the USDA Foods program operators, and Federal. We are not counting burden for the Federal Government entities since these agencies specializes in food nutrition which falls within the scope of their mission.

Estimated Frequency of Responses: 1.

Estimated Total Number of Annual Responses: 25.

Estimated Burden per Response: 0.1837 (The Recipe Submission Form (estimated average 11 minutes per response.

Estimated Total Annual Burden Hours for Recipe Submission Form: 4.59.

Form 2: The Recipe Review Form

Affected Public: State Agencies (75); Business-for-not-for-profit (50) and Individuals or Households (100).

Estimated Total Number of Respondents: 225.

(There are 75 State Agencies—who SNAP-Ed instructors, school nutrition experts, state agency nutrition programs), 50 business from the private sector, 100 individuals and household consumers from the general public, the USDA Foods program operators, and Federal. We are not counting burden for the Federal Government entities since these agencies specializes in food nutrition which falls within the scope of their mission.

Estimated Frequency of Responses: 1.

Estimated Total Annual Responses: 225.

Estimate of Burden for Recipe Review Form: 0.1002 (approximately 6 minutes per response).

Respondents:

Estimated Total Annual Burden on Respondents for Recipe Review Form: 22.54 hours.

Overall Burden Estimate Summary for both Forms: 4.59 + 22.54 = 27.13.

See table below for overall breakdown by affected public and forms:

Affected public | Type of respondent | Number of respondents | Frequency per respondents | Total annual response | Average time per response (hours) | Total annual burden hours
State, Local or Tribal Agencies | Recipe Submission Form | 15 | 1 | 15 | 0.1837 | 2.75
State, Local or Tribal Agencies | Recipe Review Form | 75 | 1 | 75 | 0.1002 | 7.51
State, Local or Tribal Agencies Sub-Total |  | 90 | 1 | 90 | 0.144 | 10.26
Business-for-not-for-profit | Recipe Submission Form | 5 | 1 | 5 | 0.1837 | 0.9185
Business-for-not-for-profit | Recipe Review Form | 50 | 1 | 50 | 0.1002 | 5.01
Business Sub-Total |  | 55 | 1 | 55 | 0.10779 | 5.9285
Individual or Households | Recipe Submission Form | 5 | 1 | 5 | 0.1837 | 0.9185
Individual or Households | Recipe Review Form | 100 | 1 | 100 | 0.1002 | 10.02
Individual or Households Sub-Total |  | 105 | 2 | 105 | 0.1837 | 10.938
Grand Total Burden Estimates |  | 250 | 1 | 250 | 0.108 | 27

Dated: August 10, 2017.
Brandon Lipps,
Administrator, Food and Nutrition Service.

[FR Doc. 2017-17524 Filed 8-21-17; 8:45 am]

BILLING CODE 3410-30-P